DEPARTMENT OF AGRICULTURE

Animal and Plant Health Inspection Service

[Docket No. APHIS-2023-0062]

Addition of Panama and Costa Rica to the List of Regions Affected With Screwworm

AGENCY: Animal and Plant Health Inspection Service, USDA.

ACTION: Notice.

SUMMARY: We are advising the public that we have added Panama and Costa Rica to the Animal and Plant Health Inspection Service (APHIS) list maintained on the APHIS website of regions considered affected with screwworm. We took this action because of the confirmation of screwworm in these regions.

DATES: Panama was added to the list of regions considered affected with screwworm effective July 12, 2021. Costa Rica was added to the list of regions considered affected with screwworm effective August 21, 2023.

FOR FURTHER INFORMATION CONTACT:

For information on Panama, contact: Dr. Michael Ray, Regionalization Evaluation Services, Strategy and Policy, APHIS Veterinary Services, 920 Main Campus Drive, Venture II Suite 200, Raleigh, NC 27606; phone: (919) 855-7225; email: AskRegionalization@usda.gov.

For information on Costa Rica, contact: Dr. Rebecca Gordon, APHIS Veterinary Services, Regionalization Evaluation Services, 920 Main Campus Drive, Suite 200, Raleigh, NC 27606; phone: (919) 338-4972; email: AskRegionalization@usda.gov.

SUPPLEMENTARY INFORMATION: The regulations in 9 CFR part 93 (referred to below as the regulations) prohibit or restrict the importation of certain animals into the United States to prevent the introduction of communicable diseases of livestock. Subparts C, D, E, and F of the regulations govern the importation of horses, ruminants, swine, and dogs, respectively.

Horses, ruminants, swine, and dogs may be imported into the United States from the regions where screwworm is considered to exist only if they are inspected and, if necessary, treated for screwworm according to the conditions outlined in the regulations for each type of animal. The requirements for horses are set out in § 93.308(a)(3) and include not only pre-embarkation and post-arrival inspection and treatment requirements, but also quarantine in the United States for 7 days after arrival, and examination by a veterinarian before release from quarantine. The requirements for ruminants and swine are set out in §§ 93.405(a)(3) and 93.505(b), respectively, and are the same as for horses, other than the 7-day quarantine and final examination of the animal. The requirements for dogs are set out in § 93.600 and require that all dogs from affected regions be inspected and, if necessary, treated before importation.

The Animal and Plant Health Inspection Service (APHIS) maintains a list of regions APHIS considers affected with screwworm on its website at https://www.aphis.usda.gov/aphis/ourfocus/animalhealth/animal-and-animal-product-import-information/animal-health-status-of-regions/. APHIS will add a region to the list upon determining that screwworm exists in the region based on reports we receive of detections of the pest from veterinary officials of the exporting country, from the World Organization for Animal Health (WOAH), or from other sources the Administrator determines to be reliable.

On July 2, 2021, Panama reported a detection of New World screwworm (Cochliomyia hominivorax) to WOAH. After that report, and after confirming that the screwworm occurred in livestock, on July 12, 2021, APHIS added Panama to the list of regions APHIS considers affected with screwworm. In 2022, Panama requested that APHIS evaluate the country for New World screwworm. APHIS concluded the evaluation in 2022 after Panama reported additional detections of screwworm throughout the country.

On July 17, 2023, Costa Rica reported a detection of New World screwworm in a dog to WOAH. On July 24, 2023, APHIS responded by adding Costa Rica to the Temporary Restrictions list for the import of animal commodities imported from or transiting Costa Rica. Subsequent follow-up reports to WOAH, as well as epidemiological reports submitted to APHIS from Costa Rica's National Service for Animal Health, indicated further detections of screwworm in livestock, including cattle and sheep. Therefore, on August 21, 2023, APHIS added Costa Rica to the list of regions APHIS considers affected with screwworm.

As a result, horses, ruminants, swine, and dogs from Panama and Costa Rica are subject to APHIS import restrictions designed to mitigate risk of screwworm introduction into the United States. This notice serves as an official record and public notification of these actions.

Authority: 7 U.S.C. 1622 and 8301-8317; 21 U.S.C. 136 and 136a; 31 U.S.C. 9701; 7 CFR 2.22, 2.80, and 371.4.

Done in Washington, DC, this 13th day of January 2025.
Michael Watson,
Administrator, Animal and Plant Health Inspection Service.

[FR Doc. 2025-00995 Filed 1-15-25; 8:45 am]

BILLING CODE 3410-34-P